DEPARTMENT OF COMMERCE

Bureau of Industry and Security

Deemed Export Advisory Committee; Notice of Partially Closed Meeting

The Deemed Export Advisory Committee (DEAC) will meet on October 12, 2006, 9 a.m., in the main lobby of the Herbert C. Hoover Building, 14th Street between Constitution and Pennsylvania Avenues, NW., Washington, DC. The Committee shall advise the Secretary on deemed export licensing policy. A tentative agenda of topics for discussion is listed below. While these topics will likely be discussed, this list is not exhaustive and there may be discussions on other related items during the public session.

October 12

Public Session

1. Introductory Remarks.

2. Current Deemed Export Control Policy Issues.

3. Technology Transfer Issues.

4. U.S. Industry Competitiveness.

5. U.S. Academic and Government Research Communities.

Closed Session

6. Discussion of matters determined to be exempt from the provisions relating to public meetings found in 5 U.S.C. app.2 §§ 10(a)(1) and 10(a)(3).

A limited number of seats will be available for the public session. Reservations are not accepted. To the extent time permits, members of the public may present oral statements to the Committee.

The public may submit written statements at any time before or after the meeting. However, to facilitate distribution of public presentation materials to Committee members, the Committee suggests that public presentation materials or comments be forwarded before the meeting to Ms. Yvette Springer at Yspringer@bis.doc.gov.

The Assistant Secretary for Administration, with the concurrence of the delegate of the General Counsel, formally determined on September 14, 2006, pursuant to section 10(d) of the Federal Advisory Committee Act, as amended (5 U.S.C. app.2 § (10)(d)), that the portion of the meeting dealing with matters that are (A) specifically authorized under criteria established by an Executive order to be kept secret in the interests of national defense or foreign policy and (B) in fact properly classified pursuant to such Executive order (5 U.S.C. 552b(c)(1)(A) and (1)(B)), shall be exempt from the provisions relating to public meetings found in 5 U.S.C. app.2 §§ 10(a)(1) and 10(a)(3). The remaining portions of the meeting will be open to the public.

For more information, call Yvette Springer at (202) 482-4814.

Dated: September 19, 2006.
Yvette Springer,
Committee Liaison Officer.

[FR Doc. 06-8068 Filed 9-21-06; 8:45 am]

BILLING CODE 3510-JT-M